DEPARTMENT OF HEALTH AND HUMAN SERVICES

Centers for Disease Control and Prevention

Board of Scientific Counselors, Office of Public Health Preparedness and Response (BSC, OPHPR)

In accordance with section 10 (a)(2) of the Federal Advisory Committee Act (Pub. L. 92-463), the Centers for Disease Control and Prevention (CDC), announces the following meeting of the aforementioned committee:

Times and Dates: 9 a.m.-5 p.m., September 14, 2011; 8 a.m.-3:15 p.m., September 15, 2011.

Place: Emory Conference Center Hotel, Salon 1-3, 1615 Clifton Road, Atlanta, Georgia 30329.

Status: Open to the public limited only by the space available. The meeting room will accommodate up to 75 people. Public participants should pre-register for the meeting as described in Additional Information for Public Participants.

Purpose: This Board is charged with providing advice and guidance to the Secretary, Department of Health and Human Services (HHS), the Assistant Secretary for Health (ASH), the Director, Centers for Disease Control and Prevention (CDC), and the Director, Office of Public Health Preparedness and Response (OPHPR), concerning strategies and goals for the programs and research within OPHPR, monitoring the overall strategic direction and focus of the OPHPR Divisions and Offices, and administration and oversight of peer review of OPHPR scientific programs. For additional information about the Board, please visit: http://www.cdc.gov/phpr/science/counselors.htm.

Matters To Be Discussed: The agenda items for this meeting include: An update to the Board on OPHPR's strategic planning activities; an annual update on the implementation of recommendations from the external review of OPHPR's fiscal allocation process; program responses to the Board's recommendations for the external peer reviews of the Division of Select Agents and Toxins, the Division of State and Local Readiness, and the Division of Emergency Operations; reports to the Board on the external peer reviews of the Division of Strategic National Stockpile and the Career Epidemiology Field Officer Program; and updates from liaison representatives to the Board to share any key highlights of their organization's activities that are relevant to the OPHPR mission. Agenda items are subject to change as priorities dictate.

Additional Information for Public Participants: Members of the public that wish to attend this meeting should pre-register by submitting the following information by e-mail, facsimile, or phone (see Contact Person for More Information) no later than 12 noon (EDT) on Friday, September 2, 2011:

• Full Name,

• Organizational Affiliation,

• Complete Mailing Address,

• Citizenship, and

• Phone Number or E-mail Address.

Contact Person for More Information: Matthew Jennings, OPHPR BSC Coordinator, CDC, 1600 Clifton Rd NE., Mailstop D-44, Atlanta, Georgia 30333, Telephone: (404) 639-7357; Facsimile: (404) 639-7977; E-mail: OPHPR.BSC.Questions@cdc.gov.

The Director, Management Analysis and Services Office, has been delegated the authority to sign Federal Register notices pertaining to announcements of meetings and other committee management activities for both the Centers for Disease Control and Prevention, and Agency for Toxic Substances and Disease Registry.

Dated: August 19, 2011.
Elaine L. Baker,
Director, Management Analysis and Services Office, Centers for Disease Control and Prevention.

[FR Doc. 2011-21887 Filed 8-25-11; 8:45 am]

BILLING CODE 4163-18-P